DEPARTMENT OF ENERGY

Federal Energy Regulatory Commission

[Docket No. TX07-1-000]

Brazos Electric Power Cooperative, Inc.; Notice Granting Motion To Suspend Compliance Obligations

April 13, 2007.

On March 15, 2007, the Commission issued an Order Directing Interconnection and Transmission Services and Approving Settlement Agreement in Brazos Electric Power Cooperative, Inc., 118 FERC ¶ 61,199 (2007) (March 15 Order).

On March 30, 2007, Brazos Electric Power Cooperative, Inc. filed a motion requesting suspension of the obligations the Commission imposed in the March 15 Order, pending final Commission action in this proceeding.

Upon consideration, the obligations the Commission imposed in the March 15 Order are suspended pending further Commission action in this proceeding.

Kimberly D. Bose,
Secretary.

[FR Doc. E7-7576 Filed 4-19-07; 8:45 am]

BILLING CODE 6717-01-P